DEPARTMENT OF ENERGY

Federal Energy Regulatory Commission

[Project No. 14715-000]

Lock+TM Hydro Friends Fund XII; Notice of Preliminary Permit Application Accepted for Filing and Soliciting Comments, Motions To Intervene, and Competing Applications

On September 14, 2015, Lock+TM Hydro Friends Fund XII filed an application for a preliminary permit, pursuant to section 4(f) of the Federal Power Act (FPA), proposing to study the feasibility of the Hepburn Street Dam Hydroelectric Project (Hepburn Project or project) to be located on West Branch of the Susquehanna River, near Williamsport, Lycoming County, Pennsylvania. The Hepburn Street Dam is owned by the state of Pennsylvania. The sole purpose of a preliminary permit, if issued, is to grant the permit holder priority to file a license application during the permit term. A preliminary permit does not authorize the permit holder to perform any land-disturbing activities or otherwise enter upon lands or waters owned by others without the owners' express permission.

The proposed project would consist of: (1) The existing 1,015-foot-long and approximately 14.5-foot-high dam discharging into the West Branch of the Susquehanna River; (2) one 150-foot-wide, 25-foot-deep Large Frame Module (LFM) containing ten 900-kilowatt (kW) hydropower turbines for a total installed capacity of 9,000 kW; (3) a 150-foot-wide, 150-foot-long tailrace; (4) a 25-foot by 50-foot switchyard containing a new transformer and control room; (5) a 1,000-foot-long, 69-kilovolt transmission line connecting the generating power to the local grid using an existing substation; and (6) appurtenant facilities. The LFM would be installed either adjacent to the dam in the existing levee north of the dam or on the upper poolside of the dam. The estimated annual generation of the Hepburn Project would be 51,000 megawatt-hours.

Applicant Contact: Mr. Wayne F. Krouse, Chairman, Hydro Green Energy, LLC, Managing Partner, Lock+™ Hydro Friends Fund XII, PO Box 43796, Birmingham, AL 35243; phone: 877-556-6566, extension 709.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14715-000.

More information about this project, including a copy of the application, can be viewed or printed on the “eLibrary” link of the Commission's Web site at http://www.ferc.gov/docs-filing/elibrary.asp. Enter the docket number (P-14715) in the docket number field to access the document. For assistance, contact FERC Online Support.

Dated: December 2, 2015.
Nathaniel J. Davis, Sr.,
Deputy Secretary.

[FR Doc. 2015-30850 Filed 12-7-15; 8:45 am]

BILLING CODE 6717-01-P